DEPARTMENT OF TRANSPORTATION

Federal Aviation Administration

14 CFR Part 39

[Docket No. FAA-2017-0532; Product Identifier 2016-NM-203-AD; Amendment 39-19060; AD 2017-20-03]

RIN 2120-AA64

Airworthiness Directives; Dassault Aviation Airplanes

AGENCY: Federal Aviation Administration (FAA), Department of Transportation (DOT).

ACTION: Final rule.

SUMMARY: We are adopting a new airworthiness directive (AD) for certain Dassault Aviation Model FALCON 7X airplanes. This AD was prompted by a review showing that inadequate clearance may exist between certain electrical wiring and nearby structures. This AD requires an inspection of certain electrical wiring bundles and feeders, modifications, and corrective actions if necessary. We are issuing this AD to address the unsafe condition on these products.

DATES: This AD is effective November 6, 2017.

The Director of the Federal Register approved the incorporation by reference of a certain publication listed in this AD as of November 6, 2017.

ADDRESSES: For service information identified in this final rule, contact Dassault Falcon Jet Corporation, Teterboro Airport, P.O. Box 2000, South Hackensack, NJ 07606; telephone 201-440-6700; Internet http://www.dassaultfalcon.com. You may view this referenced service information at the FAA, Transport Standards Branch, 1601 Lind Avenue SW., Renton, WA. For information on the availability of this material at the FAA, call 425-227-1221. It is also available on the Internet at http://www.regulations.gov by searching for and locating Docket No. FAA-2017-0532.

Examining the AD Docket

You may examine the AD docket on the Internet at http://www.regulations.gov by searching for and locating Docket No. FAA-2017-0532; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Section, Transport Standards Branch, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to certain Dassault Aviation Model FALCON 7X airplanes. The NPRM published in the Federal Register on June 12, 2017 (82 FR 26867) (“the NPRM”). The NPRM was prompted by a review showing that inadequate clearance may exist between certain electrical wiring and nearby structures. The NPRM proposed to require an inspection of certain electrical wiring bundles and feeders, modifications, and corrective actions if necessary. We are issuing this AD to detect and correct inadequate clearances between electrical wiring and nearby structures, which could lead to interference or contact with a structure and cause an electrical short circuit or fluid leakage. This could result in the loss of several functions essential for safe flight.

The European Aviation Safety Agency (EASA), which is the Technical Agent for the Member States of the European Union, has issued EASA Airworthiness Directive 2016-0230, dated November 21, 2016 (referred to after this as the Mandatory Continuing Airworthiness Information, or “the MCAI”), to correct an unsafe condition for certain Dassault Aviation Model FALCON 7X airplanes. The MCAI states:

A review of the wiring and tubing lay-out showed that there may be low clearance between electrical wiring and nearby structure. Although no in-service incident has been reported, the minimum clearances could deteriorate over time.

This condition, if not detected and corrected, could lead to interference or contact with structure, provoking an electrical short circuit or fluid leakage, possibly resulting in loss of several functions essential for safe flight.

To initially address this potential unsafe condition, [Dassault Aviation] DA developed some interim modifications (mod) addressing the risk of short circuit and fluid leakage, and EASA issued AD 2010-0029 (later revised) [which corresponds to FAA AD 2011-14-04, Amendment 39-16739 (76 FR 39256, July 6, 2011) (“AD 2011-14-04”)] to require embodiment of those modifications in-service.

Since EASA AD 2010-0029R1 was issued, DA developed another set of modifications, available for in-service application through Service Bulletin (SB) F7X-056, which are considered the final solutions for this unsafe condition.

For the reasons described above, this [EASA] AD requires a one-time [general visual] inspection [for worn or damaged wiring or connectors due to inadequate clearance between wiring and nearby structures] of the affected electrical wiring and, depending on findings, corrective action(s) and modification of the aeroplane.

Corrective actions include modifying the clamping and routing; adding new brackets, clamps, and cable protections; replacing damaged parts; and improving connections using lock wires. You may examine the MCAI in the AD docket on the Internet at http://www.regulations.gov by searching for and locating Docket No. FAA-2017-0532.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Dassault Aviation has issued Service Bulletin 7X-056, Revision 1, dated July 20, 2016. This service information describes procedures for an inspection of certain electrical wiring (wiring bundles and feeders), corrective actions, and modification of the airplane. This service information is reasonably available because the interested parties have access to it through their normal course of business or by the means identified in the ADDRESSES section.

Costs of Compliance

We estimate that this AD affects 51 airplanes of U.S. registry.

We estimate the following costs to comply with this AD:

Estimated Costs
Action | Labor cost | Parts cost | Cost per product | Cost on U.S. operators
Inspection and modifications | 31 work-hours × $85 per hour = $2,635 | $7,660 | $10,295 | $525,045

We have received no definitive data that will enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-20-03 Dassault Aviation: Amendment 39-19060; Docket No. FAA-2017-0532; Product Identifier 2016-NM-203-AD.

(a) Effective Date

This AD is effective November 6, 2017.

(b) Affected ADs

None.

(c) Applicability

This AD applies to Dassault Aviation Model FALCON 7X airplanes, certificated in any category, serial numbers (S/Ns) 2 through 215 inclusive.

(d) Subject

Air Transport Association (ATA) of America Code 20, Standard Practices Airframe—Electrical Wiring.

(e) Reason

This AD was prompted by a review showing that inadequate clearance may exist between certain electrical wiring and nearby structures. We are issuing this AD to detect and correct inadequate clearances between electrical wiring and nearby structures, which could lead to interference or contact with a structure and cause an electrical short circuit or fluid leakage. This could result in the loss of several functions essential for safe flight.

(f) Compliance

Comply with this AD within the compliance times specified, unless already done.

(g) Inspection, Modification, and Corrective Actions

Within 99 months or 4,100 flight cycles, whichever occurs first, since the date of issuance of the original airworthiness certificate or date of issuance of the original export certificate of airworthiness; or within 60 days after the effective date of this AD; whichever occurs later: Do a general visual inspection of the affected electrical wiring of the airplane for worn or damaged wiring or connectors due to inadequate clearance between wiring and nearby structures, accomplish all applicable corrective actions, and modify the airplane, in accordance with the Accomplishment Instructions of Dassault Service Bulletin 7X-056, Revision 1, dated July 20, 2016, as specified in table 1 to paragraph (g) of this AD. Do all applicable corrective actions before further flight. The “Dassault service bulletin 7X-056 section” identified in table 1 to paragraph (g) of this AD is not required for airplanes on which a corresponding Dassault modification has been embodied in production, as identified in the “Excluded” column in table 1 to paragraph (g) of this AD.

Table 1 to Paragraph (g) of This AD—Applicable Sections of Dassault Service Bulletin 7X-056, Revision 1, Dated July 20, 2016
Dassault Service Bulletin 7X-056 section | Excluded
7X-056-1 | Post-mod M876.
7X-056-2 | Post-mod M897.
7X-056-3 | Post-mod M900.
7X-056-4 | S/Ns 132 through 215 inclusive.
7X-056-5 | Post-mod M954.
7X-056-6 | Post-mod M980.
7X-056-7 | Post-mod M1021.
7X-056-8 | None.

(h) Credit for Previous Actions

This paragraph provides credit for actions required by paragraph (g) of this AD, if those actions were performed before the effective date of this AD using Dassault Service Bulletin 7X-056, issued October 30, 2014.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or Dassault Aviation's EASA Design Organization Approval (DOA). If approved by the DOA, the approval must include the DOA-authorized signature.

(j) Related Information

(1) Refer to Mandatory Continuing Airworthiness Information (MCAI) EASA Airworthiness Directive 2016-0230, dated November 21, 2016, for related information. This MCAI may be found in the AD docket on the Internet at http://www.regulations.gov by searching for and locating Docket No. FAA-2017-0532.

(2) For more information about this AD, contact Tom Rodriguez, Aerospace Engineer, International Section, Transport Standards Branch, FAA, 1601 Lind Avenue SW., Renton, WA 98057-3356; telephone 425-227-1137; fax 425-227-1149.

(3) Service information identified in this AD that is not incorporated by reference is available at the addresses specified in paragraphs (k)(3) and (k)(4) of this AD.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Dassault Service Bulletin 7X-056, Revision 1, dated July 20, 2016.

(ii) Reserved.

(3) For service information identified in this AD, contact Dassault Falcon Jet Corporation, Teterboro Airport, P.O. Box 2000, South Hackensack, NJ 07606; telephone 201-440-6700; Internet http://www.dassaultfalcon.com.

(4) You may view this service information at the FAA, Transport Standards Branch, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on September 18, 2017.
Dionne Palermo,
Acting Director, System Oversight Division, Aircraft Certification Service.

[FR Doc. 2017-20691 Filed 9-29-17; 8:45 am]

BILLING CODE 4910-13-P